GENERAL SERVICES ADMINISTRATION

[GSA Bulletin FTR 11-03; Docket 2010-0003; Sequence 6]

Privately Owned Vehicle Mileage Reimbursement Rates

AGENCY: Office of Governmentwide Policy (OGP), General Services Administration (GSA).

ACTION: Notice of FTR Bulletin 11-03, Calendar Year (CY) 2011 Privately Owned Vehicle Mileage Reimbursement Rates.

SUMMARY: The General Services Administration's (GSA) annual privately owned vehicle (POV) mileage reimbursement rate reviews have resulted in new CY 2011 rates for the use of privately owned automobiles (POA), POAs when Government owned automobiles (GOA) are authorized, and motorcycles for official purposes. No change resulted for the use of privately owned airplanes. FTR Bulletin 11-03 establishes these new CY 2011 mileage reimbursement rates, pursuant to the process discussed below. This notice of subject bulletin is the only notification of revisions to the POV rates to agencies other than the changes posted on the GSA website. GSA determines these rates by reviewing the annual standard automobile study conducted by the Internal Revenue Service, as well as conducting motorcycle and aircraft studies, and/or by applying consumer price index data.

DATES: This notice is effective upon the date of publication and applies to travel performed on or after January 1, 2011, through December 31, 2011.

FOR FURTHER INFORMATION CONTACT: For clarification of content, please contact Mr. Cy Greenidge, Office of Governmentwide Policy, Office of Travel, Transportation, and Asset Management, at (202) 219-2349, or by e-mail at travelpolicy@gsa.gov. Please cite Notice of FTR Bulletin 11-03.

SUPPLEMENTARY INFORMATION:

Change in Standard Procedure

GSA posts the POV mileage reimbursement rates, formerly published in 41 CFR Chapter 301, solely on the Internet at http://www.gsa.gov/ftr. This process, implemented in FTR Amendment 2010-07 (75 FR 72965, Nov. 29, 2010), ensures more timely updates in mileage reimbursement rates by GSA for Federal employees on official travel. Notices published periodically in the Federal Register, such as this one, and the changes posted on the GSA Web site, now constitute the only notification of revisions to privately owned vehicle reimbursement rates for Federal agencies.

Dated: December 21, 2010.
Janet Dobbs,
Acting Deputy Associate Administrator.

[FR Doc. 2010-32773 Filed 12-28-10; 8:45 am]

BILLING CODE 6820-14-P